DEPARTMENT OF COMMERCE

National Oceanic and Atmospheric Administration

50 CFR Part 679

[Docket No. 041126333-4333-01; I.D. 112204C]

Fisheries of the Exclusive Economic Zone Off Alaska; Gulf of Alaska; Proposed 2005 and 2006 Harvest Specifications for Groundfish

AGENCY: National Marine Fisheries Service (NMFS), National Oceanic and Atmospheric Administration (NOAA), Commerce.

ACTION: 2005 and 2006 proposed harvest specifications for groundfish; apportionment of reserves; request for comments.

SUMMARY: NMFS proposes 2005 and 2006 harvest specifications, reserves and apportionments, and Pacific halibut prohibited species catch (PSC) limits for the groundfish fishery of the Gulf of Alaska (GOA). This action is necessary to establish harvest limits and associated management measures for groundfish during the 2005 and 2006 fishing years. The intended effect of this action is to conserve and manage the groundfish resources in the GOA in accordance with the Magnuson-Stevens Fishery Conservation and Management Act (Magnuson-Stevens Act).

DATES: Comments must be received by January 6, 2005.

ADDRESSES: Send comments to Sue Salveson, Assistant Regional Administrator, Sustainable Fisheries Division, Alaska Region, NMFS, Attn: Lori Durall. Comments may be submitted by:

• Mail to P.O. Box 21668, Juneau, AK 99802;

• Hand Delivery to the Federal Building, 709 West 9th Street, Room 420A, Juneau, AK;

• E-mail to 2005AKgroundfish.tacspecs@noaa.gov and include in the subject line of the e-mail comments the document identifier: 2005 Proposed Specifications (E-mail comments, with or without attachments, are limited to 5 megabytes);

• FAX to 907-586-7557; or

• Webform at the Federal eRulemaking Portal: www.regulations.gov. Follow the instructions at that site for submitting comments.

Copies of the draft Environmental Assessment/Initial Regulatory Flexibility Analysis (EA/IRFA) prepared for this action and the 2001 Biological Opinion (BiOp) on the Steller sea lion protection measures are available from NMFS at the address above or from the Alaska Region website www.fakr.noaa.gov. Copies of the final 2003 Stock Assessment and Fishery Evaluation (SAFE) reports, dated November 2003, are available from the North Pacific Fishery Management Council, West 4th Avenue, Suite 306, Anchorage, AK, 99510 or from its website at www.fakr.noaa.gov/npfmc.

FOR FURTHER INFORMATION CONTACT: Tom Pearson, Sustainable Fisheries Division, Alaska Region, 907-481-1780 or e-mail at tom.pearson@noaa.gov.

SUPPLEMENTARY INFORMATION:

Background

NMFS manages the groundfish fisheries in the exclusive economic zone off Alaska under the Fishery Management Plan for Groundfish of the Gulf of Alaska (FMP). The North Pacific Fishery Management Council (Council) prepared the FMP under the authority of the Magnuson-Stevens Act, 16 U.S.C. 1801, et seq. Regulations governing U.S. fisheries and implementing the FMP appear at 50 CFR parts 600 and 679.

Amendments 48/48 to the FMP and to the Fishery Management Plan for Groundfish of the Bering Sea and Aleutian Islands Management Area were unanimously recommended by the Council in October 2003 and approved by NMFS on October 12, 2004. The final rule implementing Amendments 48/48 was published November 8, 2004, (69 FR 64683). Amendments 48/48 revise the administrative process used to establish annual specifications for the groundfish fisheries of the GOA and the Bering Sea and Aleutian Islands (BSAI). The goals of Amendments 48/48 in revising the specifications process are to (1) manage fisheries based on the best scientific information available, (2) provide for adequate prior public review and comment on Council recommendations, (3) provide for additional opportunity for Secretarial review, (4) minimize unnecessary public confusion and disruption to fisheries, and (5) promote administrative efficiency.

Based on the approval of Amendments 48/48, the Council recommended 2005 and 2006 proposed specifications for GOA groundfish. These proposed specifications are based on the 2003 SAFE report. In November 2004, the 2004 SAFE report will be used to develop the final 2005 and 2006 groundfish acceptable biological catch amounts (ABC). When possible, this proposed rule will identify any proposal that may be anticipated to change in the final specifications. The 2006 specifications will be updated in early 2006 when final specifications for 2006 and new specifications for 2007 are implemented.

In October 2004, the Council also recommended a biennial harvest specifications process for certain long-lived species and for species for which little new management information is available on other than a biennial basis. Based on current survey schedules, the GOA species for which biennial harvest specifications process would be used are deep water flatfish, rex sole, shallow water flatfish, flathead sole, arrowtooth flounder, slope rockfish, northern rockfish, Pacific ocean perch, shortraker/rougheye rockfish, pelagic shelf rockfish, thornyhead rockfish, demersal shelf rockfish, skates, and Atka mackerel. Stock assessment surveys are conducted biennially in the GOA for these species. Because new information is updated every two years and harvest amounts are fairly stable from year to year, the harvest specifications process for these species would be conducted every 2 years. If new management information becomes available for any of those species on a more frequent basis, an annual harvest specifications process could still be used. Amendment 48 to the GOA FMP would allow harvest specifications to be established for up to 2 fishing years, and the administrative process to establish these biennial harvest specifications would be done every other year, concurrent with the annual harvest specifications process used for other species.

Allowing for up to two years of specifications during the specifications process would recognize the time period of projections that must be used for establishing harvest specifications that would allow for rulemaking in the following year and would provide the Council and NMFS the flexibility to conduct either an annual or biennial specifications process in response to potential changes in the frequency of stock assessment surveys or other data or administrative issues. Based on current survey schedules and available information, pollock, trawl sablefish, Pacific cod, and “other species” category fisheries in the GOA will be managed using an annual harvest specification process. However, this process will provide specifications for two years. The second year's specifications will be replaced by the new harvest specifications through rulemaking based on the annual harvest specification process. Any proposed changes from using either an annual process or a biennial process for a particular target species will be analyzed during the harvest specification process.

The Council recommended that specifications for the hook-and-line gear and pot gear sablefish individual fishing quota (IFQ) fisheries be limited to 1 year to ensure that those fisheries are conducted concurrent with the halibut IFQ fishery. Having the sablefish IFQ fisheries concurrent with the halibut IFQ fishery would reduce the potential for discards of halibut and sablefish in these fisheries. The sablefish IFQ fisheries would remain closed at the beginning of each fishing year until the final specifications for the sablefish IFQ fisheries are in effect. The trawl sablefish fishery would be managed using specifications for up to a 2-year period, similar to GOA pollock, Pacific cod and the “other species” category.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut PSC amounts, and seasonal allowances of pollock and inshore/offshore Pacific cod. The proposed specifications set forth in Tables 1 through 13 of this document satisfy these requirements. For 2005, the sum of the proposed TAC amounts is 264,265 mt. For 2006, the sum of the proposed TAC amounts is 253,867 mt. Under § 679.20(c)(3), NMFS will publish the final 2005 and 2006 specifications after (1) considering comments received within the comment period (see DATES), (2) consulting with the Council at its December 2004 meeting, and (3) considering new information presented in the EA and the final 2004 SAFE report prepared for the 2005 and 2006 fisheries.

Section 679.20(c)(2)(i) provides that one-fourth of each proposed TAC and apportionment (not including the reserves and the first seasonal allowances of pollock and Pacific cod), one-fourth of the proposed halibut PSC amounts, and the proposed first seasonal allowances of pollock and Pacific cod will become effective 0001 hours, Alaska local time (A.l.t.) January 1, 2005, on an interim basis and remain in effect until superseded by the final harvest specifications, which will be published in the Federal Register. Without interim specifications in effect on January 1, the groundfish fisheries would not be able to open on that date. This would result in disruption to the fishing industry. The 2005 interim harvest specifications will be published by NMFS in the Federal Register prior to January 1, 2005.

Proposed Steller Sea Lion Protection Measures Revisions

In June 2004, the Council unanimously recommended revisions to the Steller sea lion protection measures in the GOA to alleviate some of the economic burden on coastal communities while maintaining protection for Steller sea lions and their critical habitat. These revisions would adjust pollock and Pacific cod fishing closures near four Steller sea lion haulouts and would revise seasonal management of pollock harvest. NMFS concluded in an Endangered Species Act, section 7, informal consultation dated August 26, 2004, that fishing under the proposed revisions is not likely to adversely affect Steller sea lions beyond those effects already considered in the 2001 Biological Opinion on the Steller sea lion protection measures and its June 19, 2003 supplement. NMFS published a proposed rule on September 21, 2004 (69 FR 56384) to implement these revisions, inviting comments through October 21, 2004. If adopted, NMFS anticipates that a final rule would be published before the beginning of the 2005 fishing year. The revised pollock harvest management measures would affect the annual specifications by extending the A and C season dates for pollock and provide clarification as to how the Regional Administrator, Alaska Region, NMFS, (Regional Administrator) would rollover unharvested amounts of pollock between seasons.

If adopted, the proposed rule would extend the pollock A season dates from January 20 through February 25 to January 20 through March 10 and extend the pollock C season dates from August 25 through September 15 to August 25 through October 1 in the Western and Central Regulatory Areas of the GOA. The proposed action also would change regulatory provisions for the rollover of a statistical area's unharvested pollock apportionment into the subsequent season. The rollover amount would be limited to 20 percent of the seasonal apportionment for the statistical area. Any unharvested pollock above the 20 percent limit could be further distributed to the other statistical areas, in proportion to the estimated biomass in the subsequent season in those statistical areas.

Proposed ABC and TAC Specifications

The proposed ABC and TAC for each species or species group are based on the best available biological and socioeconomic information, including projected biomass trends, information on assumed distribution of stock biomass, and revised methods used to calculate stock biomass. The Council and its Scientific and Statistical Committee (SSC) reviewed current biological and harvest information about the condition of groundfish stocks in the GOA in October 2004. Because of time constraints, the Advisory Panel (AP) did not make any recommendations to the Council regarding the proposed harvest specifications at its October meeting. Most of the information available to the SSC and to the Council was initially compiled by the Council's GOA Plan Team and was presented in the final 2003 SAFE report for the GOA groundfish fisheries, dated November 2003 (see ADDRESSES). The Plan Team annually produces such a document as the first step in the process of specifying TACs. The SAFE report contains a review of the latest scientific analyses and estimates of each species' biomass and other biological parameters and summaries of the available information on the GOA ecosystem and the economic condition of the groundfish fisheries off Alaska. From these data and analyses, the Plan Team estimates an ABC for each species category. The 2003 SAFE report will be updated to include new information collected during 2004. Revised stock assessments made available by the Plan Team in November 2004 and included in the final 2004 SAFE report, will be available in December 2004. The final harvest specifications may be adjusted from the proposed harvest specifications based on the 2004 SAFE report.

Based on the recommendations from the SSC for overfishing levels (OFLs) and ABCs, the Council recommended the OFLs and ABCs for stocks in tiers 1 through 3, except for pollock, be based on biomass projections as set forth in the 2003 SAFE report and on estimates of groundfish harvests through the 2004 and 2005 fishing years. The Council recommended that OFL and ABC levels for those stocks in tiers 4 through 6, for which projections cannot be made, remain unchanged from 2004 levels for 2005 and 2006.

The SSC adopted the OFL and ABC recommendations from the Plan Team for all groundfish species. In the 2003 SAFE report, the 2005 and 2006 ABC projections are 72,100 mt and 70,642 mt, respectively, for the combined Western, Central, and West Yakutat (W/C/WYK) GOA stock of pollock. The Plan Team did not endorse the ABC projections because the NMFS 2004 winter Shelikof survey estimates indicate that the biomass level is lower than projected and because it represents an increase from the 2004 ABC. The Plan Team recommended that the 2004 ABC of 64,740 mt for the W/C/WYK pollock stock be rolled over in the proposed specifications for 2005 and 2006 given the apparently similar 2003 and 2004 survey results from the NMFS' winter surveys in the GOA. The SSC concurred with the pollock assessment recommendation that OFL and ABC levels be unchanged from 2004 levels until a formal stock assessment can be completed in November 2004.

As in 2004, the SSC and Council recommended that the method of apportioning the sablefish ABC among management areas include commercial fishery and survey data. NMFS stock assessment scientists believe that the use of unbiased commercial fishery data reflecting catch-per-unit effort provides a desirable input for stock distribution assessments. The use of commercial fishery data is evaluated annually to assure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat District.

The SSC and Council recommended that the ABC for Pacific cod in the GOA be apportioned among regulatory areas based on the three most recent NMFS' summer trawl surveys. As in previous years, the Plan Team, SSC, and Council recommended that total removals of Pacific cod from the GOA not exceed ABC recommendations. Accordingly, the Council recommended that the 2005 and 2006 TACs be adjusted downward from the ABCs by amounts equal to the 2005 guideline harvest levels (GHL) established for Pacific cod by the State of Alaska (State) for the state managed fisheries in the GOA. The effect of the State's GHL on the Pacific cod TAC is discussed in greater detail below. As in 2004, NMFS proposes for 2005 and 2006 to establish an A season directed fishing allowance (DFA) for the Pacific cod fisheries in the GOA based on the management area TACs less the recent average A season incidental catch of Pacific cod in each management area before June 10 (see § 679.20(d)(1)). The DFA and incidental catch before June 10 will be managed such that total harvest in the A season will be no more than 60 percent of the annual TAC. Incidental catch taken after June 10 will continue to be taken from the B season TAC. This action meets the intent of the Steller Sea Lion Protection Measures by achieving temporal dispersion of the Pacific cod removals and by reducing the likelihood of harvest exceeding 60 percent of the annual TAC in the A season (January 1 through June 10).

For 2005 and 2006, the Council recommends and NMFS proposes the ABCs listed in Tables 1 and 2. These amounts reflect harvest amounts that are less than the specified overfishing amounts. The sum of the ABCs for all assessed groundfish is 514,864 mt for 2005 and 515,240 mt for 2006, which is higher than the 2004 ABC of 507,092 mt (69 FR 26320, May 12, 2004).

Specification and Apportionment of TAC Amounts

The Council recommended TACs for 2005 and 2006 that are equal to ABCs for pollock, deep-water flatfish, rex sole, sablefish, Pacific ocean perch, shortraker and rougheye rockfish, northern rockfish, pelagic shelf rockfish, thornyhead rockfish, demersal shelf rockfish, and Atka mackerel. The Council recommended TACs that are less than the ABCs for Pacific cod, flathead sole, shallow-water flatfish, arrowtooth flounder, and other rockfish.

The apportionment of annual pollock TAC among the Western and Central Regulatory Areas of the GOA reflects the seasonal biomass distribution and is discussed in greater detail below. The annual pollock TAC in the Western and Central Regulatory Areas of the GOA is divided into four equal seasonal apportionments. Twenty-five percent of the annual TAC in the Western and Central Regulatory Areas of the GOA is apportioned to the A season (January 20 through February 25), the B season (March 10 through May 31), the C season (August 25 through September 15), and the D season (October 1 through November 1) in Statistical Areas 610, 620, and 630 of the GOA (see § 679.23(d)(2)(i) through (iv) and § 679.20(a)(5)(iii)(B)). As discussed above, revised seasonal dates for the A and C season pollock fisheries would be effective with the implementation of the final rule for revising Steller sea lion protection measures (69 FR 56384, September 21, 2004).

The 2005 and 2006 Pacific cod TACs are affected by the State's developing fishery for Pacific cod in State waters in the Central and Western GOA, as well as in Prince William Sound (PWS). The SSC and Council recommended that the sum of all State and Federal water Pacific cod removals not exceed the ABC. Accordingly, the Council recommended that in 2005 the Pacific cod TAC be reduced from ABC levels to account for State GHLs in each regulatory area of the GOA. Therefore, respective TACs are reduced from ABCs as follows: (1) Eastern GOA, 412 mt; (2) Central GOA, 8,141 mt; and (3) Western GOA, 5,301 mt. For 2006, the Council recommended that the Pacific cod TAC be reduced from ABC levels to account for State GHLs in each regulatory area of the GOA. Therefore, the respective TACs are, therefore, reduced from ABCs as follows: (1) Eastern GOA, 338 mt; (2) Central GOA, 6,683 mt; and (3) Western GOA, 4,352 mt. These amounts reflect the sum of the State's 2005 GHLs in these areas, which are 10 percent, 24.25 percent, and 25 percent of the Eastern, Central, and Western GOA ABCs, respectively.

NMFS also is establishing seasonal apportionments of the annual Pacific cod TAC in the Western and Central Regulatory Areas. Sixty percent of the annual TAC is apportioned to the A season for hook-and-line, pot or jig gear from January 1 through June 10, and for trawl gear from January 20 through June 10. Forty percent of the annual TAC is apportioned to the B season for hook-and-line, pot or jig gear from September 1 through December 31, and for trawl gear from September 1 through November 1 (see §§ 679.23(d)(3) and 679.20(a)(11)). These seasonal apportionments of the annual Pacific cod TAC are discussed in greater detail below.

The FMP specifies that the amount for the “other species” category is calculated as 5 percent of the combined TAC amounts for target species. The 2005 GOA-wide “other species” TAC is 12,584 mt and the 2006 TAC is 12,089 mt, which is 5 percent of the sum of the combined TAC amounts (251,681 mt for 2005 and 241,778 mt for 2006) for the assessed target species. The sum of the TACs for all GOA groundfish is 264,265 mt for 2005 and 253,867 mt for 2006, which is within the OY range specified by the FMP. The sum of the 2005 TACs and the sum of the 2006 TACs are lower than the 2004 TAC sum of 271,776 mt.

NMFS finds that the Council's recommendations for proposed OFL, ABC, and TAC amounts are consistent with the biological condition of groundfish stocks as adjusted for other biological and socioeconomic considerations, including maintaining the total TAC within the required OY range of 116,000 to 800,000 mt. The proposed 2005 and 2006 ABCs, TACs, and OFLs are shown in Tables 1 and 2.

Table 1—Proposed 2005 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska.
(Values are rounded to the nearest metric ton)
Totals | Species | Area¹ | ABC | TAC | Overfishing level
| Pollock² | Shumagin (610) | 22,930 | 22,930 |
|  | Chirikof (620) | 26,490 | 26,490 |
|  | Kodiak (630) | 14,040 | 14,040 |
|  | WYK (640) | 1,280 | 1,280 |
Subtotal |  | W/C/WYK | 64,740 | 64,740 | 91,060
|  | SEO (650) | 6,520 | 6,520 | 8,690
Total |  |  | 71,260 | 71,260 | 99,750
| Pacific cod³ | W | 21,204 | 15,903 |
|  | C | 33,573 | 25,432 |
|  | E | 4,123 | 3,711 |
Total |  |  | 58,900 | 45,046 | 78,400
| Flatfish⁴ (deep-water) | W | 310 | 310 |
|  | C | 2,970 | 2,970 |
|  | WYK | 1,880 | 1,880 |
|  | SEO | 910 | 910 |
Total |  |  | 6,070 | 6,070 | 8,010
| Rex sole | W | 1,680 | 1,680 |
|  | C | 7,340 | 7,340 |
|  | WYK | 1,340 | 1,340 |
|  | SEO | 2,290 | 2,290 |
Total |  |  | 12,650 | 12,650 | 16,480
| Flathead sole | W | 11,694 | 2,000 |
|  | C | 30,024 | 5,000 |
|  | WYK | 2,992 | 2,992 |
|  | SEO | 390 | 390 |
Total |  |  | 45,100 | 10,382 | 56,500
| Flatfish⁵ (shallow-water) | W | 21,580 | 4,500 |
|  | C | 27,250 | 13,000 |
|  | WYK | 2,030 | 2,030 |
|  | SEO | 1,210 | 1,210 |
Total |  |  | 52,070 | 20,740 | 63,840
| Arrowtooth flounder | W | 26,249 | 8,000 |
|  | C | 168,953 | 25,000 |
|  | WYK | 11,787 | 2,500 |
|  | SEO | 9,911 | 2,500 |
Total |  |  | 216,900 | 38,000 | 253,900
| Sablefish⁶ | W | 2,411 | 2,411 |
|  | C | 5,892 | 5,892 |
|  | WYK | 2,036 | 2,036 |
|  | SEO | 3,053 | 3,053 |
Subtotal |  | E | 5,089 | 5,089 |
Total |  |  | 13,392 | 13,392 | 19,008
| Pacific ocean perch⁷ | W | 2,489 | 2,489 | 2,964
|  | C | 8,253 | 8,253 | 9,828
|  | WYK | 802 | 802 |
|  | SEO | 1,556 | 1,556 |
Subtotal |  | E |  | 2,358 | 2,808
Total |  |  | 13,100 | 13,100 | 15,600
| Shortraker/rougheye⁸ | W | 254 | 254 |
|  | C | 656 | 656 |
|  | E | 408 | 408 |
Total |  |  | 1,318 | 1,318 | 2,510
| Other rockfish⁹,¹⁰ | W | 40 | 40 |
|  | C | 300 | 300 |
|  | WYK | 130 | 130 |
|  | SEO | 3,430 | 200 |
Total |  |  | 3,900 | 670 | 5,150
| Northern rockfish¹⁰,¹¹,¹⁵ | W | 730 | 730 |
|  | C | 3,870 | 3,870 |
|  | E | N/A | N/A |
Total |  |  | 4,600 | 4,600 | 5,400
| Pelagic shelf rockfish¹² | W | 370 | 370 |
|  | C | 3,010 | 3,010 |
|  | WYK | 210 | 210 |
|  | SEO | 880 | 880 |
Total |  |  | 4,470 | 4,470 | 5,570
| Thornyhead rockfish | W | 410 | 410 |
|  | C | 1,010 | 1,010 |
|  | E | 520 | 520 |
Total |  |  | 1,940 | 1,940 | 2,590
| Big/longnose¹³ skates | C | 4,435 | 3,284 |
| Other skates¹⁴ | GW | 3,709 | 3,709 |
Total |  |  | 8,144 | 6,993 | 10,859
| Demersal shelf rockfish¹⁶ | SEO | 450 | 450 | 690
| Atka mackerel | GW | 600 | 600 | 6,200
| Other species¹⁷ | GW | N/A | 12,584 | N/A
TOTAL¹⁸ |  |  | 514,864 | 264,265 | 650,457
1. Regulatory areas and districts are defined at § 679.2.
2. Pollock is apportioned in the Western/Central Regulatory Areas among three statistical areas. During the A season, the apportionment is based on an adjusted estimate of the relative distribution of pollock biomass at 25 percent, 56 percent, and 19 percent in Statistical Areas 610, 620, and 630, respectively. During the B season, the apportionment is based on the relative distribution of pollock biomass at 25 percent, 66 percent, and 9 percent in Statistical Areas 610, 620, and 630, respectively. During the C and D seasons, the apportionment is based on the relative distribution of pollock biomass at 47 percent, 23 percent, and 30 percent in Statistical Areas 610, 620, and 630, respectively. These seasonal apportionments are shown in Table 5. In the West Yakutat and Southeast Outside Districts of the Eastern Regulatory Area, pollock is not divided into seasonal allowances.
3.The annual Pacific cod TAC is apportioned 60 percent to an A season and 40 percent to a B season in the Western and Central Regulatory Areas of the GOA. Pacific cod is allocated 90 percent for processing by the inshore component and 10 percent for processing by the offshore component. Seasonal apportionments and component allocations of TAC are shown in Tables 6 and 7.
4. “Deep water flatfish” means Dover sole, Greenland turbot, and deepsea sole.
5. “Shallow water flatfish” means flatfish not including “deep water flatfish,” flathead sole, rex sole, or arrowtooth flounder.
6. Sablefish is allocated to trawl and hook-and-line gears (Tables 3 and 4).
7. “Pacific ocean perch” means Sebastes alutus.
8. “Shortraker/rougheye rockfish” means Sebastes borealis (shortraker) and S. aleutianus (rougheye).
9. “Other rockfish” in the Western and Central Regulatory Areas and in the West Yakutat District means slope rockfish and demersal shelf rockfish. The category “other rockfish” in the SEO District means Slope rockfish.
10. “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
11. “Northern rockfish” means Sebastes polyspinis.
12. “Pelagic shelf rockfish” means Sebastes ciliatus (dusky), S. entomelas (widow), and S. flavidus (yellowtail).
13. Big skate means Raja binoculata and longnose skate means Raja rhina.
14. Other skates means big and long nose skates in the E and W GOA and Bathyraja spp. Gulfwide.
15. N/A means not applicable.
16. “Demersal shelf rockfish” means Sebastes pinniger (canary), S. nebulosus (china), S. caurinus (copper), S. maliger (quillback), S. helvomaculatus (rosethorn), S. nigrocinctus (tiger), and S. ruberrimus (yelloweye).
17. “Other species” means sculpins, sharks, squid, and octopus. There is no OFL or ABC for “other species”, the TAC for “other species” equals 5 percent of the TACs for assessed target species.
18. The total ABC and OFL is the sum of the ABCs and OFLs for assessed target species.

Table 2—Proposed 2006 ABCs, TACs, and Overfishing Levels of Groundfish for the Western/Central/West Yakutat (W/C/WYK), Western (W), Central (C), Eastern (E) Regulatory Areas, and in the West Yakutat (WYK), Southeast Outside (SEO), and Gulfwide (GW) Districts of the Gulf of Alaska.
(Values are rounded to the nearest metric ton)
Total | Species | Area¹ | ABC | TAC | Overfishing level
| Pollock² | Shumagin (610) | 22,930 | 22,930 |
|  | Chirikof (620) | 26,490 | 26,490 |
|  | Kodiak (630) | 14,040 | 14,040 |
|  | WYK (640) | 1,280 | 1,280 |
Subtotal |  | W/C/WYK | 64,740 | 64,740 | 91,060
|  | SEO (650) | 6,520 | 6,520 | 8,690
Total |  |  | 71,260 | 71,260 | 99,750
| Pacific cod³ | W | 17,406 | 13,054 |
|  | C | 27,560 | 20,877 |
|  | E | 3,384 | 3,046 |
Total |  |  | 48,350 | 36,977 | 63,950
| Flatfish⁴ (deep-water) | W | 310 | 310 |
|  | C | 2,970 | 2,970 |
|  | WYK | 1,880 | 1,880 |
|  | SEO | 910 | 910 |
Total |  |  | 6,070 | 6,070 | 8,010
| Rex sole | W | 1,680 | 1,680 |
|  | C | 7,340 | 7,340 |
|  | WYK | 1,340 | 1,340 |
|  | SEO | 2,290 | 2,290 |
Total |  |  | 12,650 | 12,650 | 16,480
| Flathead sole | W | 11,111 | 2,000 |
|  | C | 28,527 | 5,000 |
|  | WYK | 2,842 | 2,842 |
|  | SEO | 370 | 370 |
Total |  |  | 42,850 | 10,212 | 53,850
| Flatfish⁵ (shallow-water) | W | 21,580 | 4,500 |
|  | C | 27,250 | 13,000 |
|  | WYK | 2,030 | 2,030 |
|  | SEO | 1,210 | 1,210 |
Total |  |  | 52,070 | 20,740 | 63,840
| Arrowtooth flounder | W | 27,924 | 8,000 |
|  | C | 179,734 | 25,000 |
|  | WYK | 12,539 | 2,500 |
|  | SEO | 10,543 | 2,500 |
Total |  |  | 230,740 | 38,000 | 270,050
| Sablefish⁶ | W | 2,237 | 2,237 |
|  | C | 5,468 | 5,468 |
|  | WYK | 1,889 | 1,889 |
|  | SEO | 2,834 | 2,834 |
Subtotal |  | E | 4,723 | 4,723 |
Total |  |  | 12,428 | 12,428 | 17,633
| Pacific ocean perch⁷ | W | 2,419 | 2,419 | 2,872
|  | C | 8,020 | 8,020 | 9,526
|  | WYK | 779 | 779 |
|  | SEO | 1,512 | 1,512 |
Subtotal |  | E |  | 2,291 | 2,722
Total |  |  | 12,730 | 12,730 | 15,120
| Shortraker/rougheye⁸ | W | 254 | 254 |
|  | C | 656 | 656 |
|  | E | 408 | 408 |
Total |  |  | 1,318 | 1,318 | 2,510
| Other rockfish⁹,¹⁰ | W | 40 | 40 |
|  | C | 300 | 300 |
|  | WYK | 130 | 130 |
|  | SEO | 3,430 | 200 |
Total |  |  | 3,900 | 670 | 5,150
| Northern rockfish¹⁰,¹¹,¹⁵ | W | 678 | 678 |
|  | C | 3,592 | 3,592 |
|  | E | N/A | N/A |
Total |  |  | 4,270 | 4,270 | 5,070
| Pelagic shelf rockfish¹² | W | 370 | 370 |
|  | C | 3,010 | 3,010 |
|  | WYK | 210 | 210 |
|  | SEO | 880 | 880 |
Total |  |  | 4,470 | 4,470 | 5,570
| Thornyhead rockfish | W | 410 | 410 |
|  | C | 1,010 | 1,010 |
|  | E | 520 | 520 |
Total |  |  | 1,940 | 1,940 | 2,590
| Big/longnose¹³ skates | C | 4,435 | 3,284 |
| Other skates¹⁴ | GW | 3,709 | 3,709 |
Total |  |  | 8,144 | 6,993 | 10,859
| Demersal shelf rockfish¹⁶ | SEO | 450 | 450 | 690
| Atka mackerel | GW | 600 | 600 | 6,200
| Other species¹⁷ | GW | N/A | 12,089 | N/A
TOTAL¹⁸ |  |  | 514,240 | 253,867 | 647,272
1. Regulatory areas and districts are defined at § 679.2.
2. Pollock is apportioned in the Western/Central Regulatory Areas among three statistical areas. During the A season, the apportionment is based on an adjusted estimate of the relative distribution of pollock biomass at 25 percent, 56 percent, and 19 percent in Statistical Areas 610, 620, and 630, respectively. During the B season, the apportionment is based on the relative distribution of pollock biomass at 25 percent, 66 percent, and 9 percent in Statistical Areas 610, 620, and 630, respectively. During the C and D seasons, the apportionment is based on the relative distribution of pollock biomass at 47 percent, 23 percent, and 30 percent in Statistical Areas 610, 620, and 630, respectively. These seasonal apportionments are shown in Table 5. In the WestYakutat and SEO Districts of the Eastern Regulatory Area, pollock is not divided into seasonal allowances.
3. The annual Pacific cod TAC is apportioned 60 percent to an A season and 40 percent to a B season in the Western and Central Regulatory Areas of the GOA. Pacific cod is allocated 90 percent for processing by the inshore component and 10 percent for processing by the offshore component. Seasonal apportionments and component allocations of TAC are shown in Tables 6 and 7.
4. “Deep water flatfish” means Dover sole, Greenland turbot, and deepsea sole.
5. “Shallow water flatfish” means flatfish not including “deep water flatfish,” flathead sole, rex sole, or arrowtooth flounder.
6. Sablefish is allocated to trawl and hook-and-line gears (Tables 3 and 4).
7. “Pacific ocean perch” means Sebastes alutus.
8. “Shortraker/rougheye rockfish” means Sebastes borealis (shortraker) and S. aleutianus (rougheye).
9. “Other rockfish” in the Western and Central Regulatory Areas and in the West Yakutat District means slope rockfish and demersal shelf rockfish. The category “other rockfish” in the SEO District means Slope rockfish.
10. “Slope rockfish” means Sebastes aurora (aurora), S. melanostomus (blackgill), S. paucispinis (bocaccio), S.goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
11. “Northern rockfish” means Sebastes polyspinis.
12. “Pelagic shelf rockfish” means Sebastes ciliatus (dusky), S. entomelas (widow), and S. flavidus (yellowtail).
13. Big skate means Raja binoculata and longnose skate means Raja rhina.
14. Other skates means big and long nose skates in the E and W GOA and Bathyraja spp. Gulfwide.
15. N/A means not applicable.
16. “Demersal shelf rockfish” means Sebastes pinniger (canary), S. nebulosus (china), S. caurinus (copper), S. maliger (quillback), S. helvomaculatus (rosethorn), S. nigrocinctus (tiger), and S. ruberrimus (yelloweye).
17. “Other species” means sculpins, sharks, squid, and octopus. There is no OFL or ABC for “other species”, the TAC for “other species” equals 5 percent of the TACs for assessed target species.
18. The total ABC and OFL is the sum of the ABCs and OFLs for assessed target species.

Proposed Apportionment of Reserves

Regulations at § 679.20(b)(2) require 20 percent of each TAC for pollock, Pacific cod, flatfish, and the “other species” category be set aside in reserves for possible apportionment at a later date. In 2004, NMFS reapportioned all of the reserves in the final harvest specifications. For 2005 and 2006, NMFS proposes apportionment of all of the reserve for pollock, Pacific cod, flatfish, and “other species.” Specifications of TAC shown in Tables 1 and 2 reflect apportionment of reserve amounts for these species and species groups.

Proposed Apportionments of the Sablefish TAC Amounts to Vessels Using Hook-and-Line and Trawl Gear

Under § 679.20(a)(4)(i) and (ii), sablefish TACs for each of the regulatory areas and districts are allocated to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (see § 679.20(a)(1)). In recognition of the trawl ban in the SEO District of the Eastern Regulatory Area, the Council recommended and NMFS concurs that 5 percent of the combined Eastern GOA sablefish TAC be allocated to trawl gear in the WYK District and the remainder to vessels using hook-and-line gear. In the SEO District, 100 percent of the sablefish TAC is allocated to vessels using hook-and-line gear. The Council recommended that only trawl sablefish TAC be established biennially. This recommendation results in an allocation of 254 mt to trawl gear and 1,782 mt to hook-and-line gear in the WYK District, of 3,053 mt to hook-and-line gear in the SEO District in 2005, and of 236 mt to trawl gear in the WYK District in 2006. Tables 3 and 4 shows the allocations of the proposed 2005 and 2006 sablefish TACs between hook-and-line and trawl gear.

Table 3—Proposed 2005 Sablefish TAC Specifications in the Gulf of Alaska and Allocations Thereof to Hook-and-Line and Trawl Gear.
(Values are rounded to the nearest metric ton)
Area/District | TAC | Hook-and-line apportionment | Trawl apportionment
Western | 2,411 | 1,929 | 482
Central | 5,892 | 4,714 | 1,178
West Yakutat | 2,036 | 1,782 | 254
Southeast Outside | 3,053 | 3,053 | 0
Total | 13,392 | 11,478 | 1,914

Table 4—Proposed 2006 Sablefish TAC Specifications in the Gulf of Alaska and Allocations Thereof to Trawl Gear.
(Values are rounded to the nearest metric ton)
Area/District | TAC | Hook-and-line apportionment¹ | Trawl apportionment
Western | 2,237 | n/a | 447
Central | 5,468 | n/a | 1,094
West Yakutat | 1,889 | n/a | 236
Southeast Outside | 2,834 | n/a | 0
Total | 12,428 | n/a | 1,777
¹The Council recommended that specifications for the hook-and-line gear sablefish IFQ fisheries be limited to 1 year to ensure that those fisheries are conducted concurrent with the halibut IFQ fishery.

Proposed Apportionments of Pollock TAC Among Seasons and Regulatory Areas, and Allocations for Processing by Inshore and Offshore Components

In the GOA, pollock is apportioned by season and area, and is further allocated for processing by inshore and offshore components. Under regulations at § 679.20(a)(5)(iii)(B), the annual pollock TAC specified for the Western and Central Regulatory Areas of the GOA is apportioned into four equal seasonal allowances of 25 percent. As established by § 679.23(d)(2)(i) through (iv), the A, B, C, and D season allowances are available from January 20 through February 25, March 10 through May 31, August 25 through September 15, and October 1 through November 1, respectively. As discussed previously, if the proposed revision of Steller sea lion protection measures (69 FR 56384, September 21, 2004) is approved, the A season dates would be changed to January 20 through March 10 and the C season dates would be changed to August 25 through October 1.

Pollock TACs in the Western and Central Regulatory Areas of the GOA in the A and B seasons are apportioned among statistical areas 610, 620, and 630 in proportion to the distribution of pollock biomass as determined by a composite of NMFS winter surveys and in the C and D seasons in proportion to the distribution of pollock biomass as determined by the four most recent NMFS summer surveys. As in 2004, the Council recommended that during the A season, the winter and summer distribution of pollock be averaged in the Central Regulatory Area to better reflect the distribution of pollock and the performance of the fishery in the area during the A season for the 2005 and 2006 fishing years. Within any fishing year, the underage or overage of a seasonal allowance may be added to or subtracted from subsequent seasonal allowances in a manner to be determined by the Regional Administrator, provided that the sum of the revised seasonal allowances does not exceed 30 percent of the annual TAC apportionment for the Central and Western Regulatory Areas in the GOA (§ 679.20(a)(5)(iii)(B)). For 2005 and 2006, 30 percent of the proposed annual TAC for the Central and Western Regulatory Areas is 19,308 mt. As discussed previously, approval of the proposed revision to Steller sea lion protection measures would alter the way NMFS handles rollovers. The rollover amount would be limited to 20 percent of the seasonal apportionment for the statistical area. Any unharvested pollock above the 20 percent limit could be further distributed to the other statistical areas, in proportion to the estimated biomass in the subsequent season in those statistical areas. Because the harvest of pollock is apportioned among four seasons, the 20 percent seasonal apportionment rollover limit would be equivalent annually to the 30-percent annual rollover limit currently in the regulations. The WYK and SEO District pollock TACs of 1,280 mt and 6,520 mt, respectively, are not allocated seasonally.

Section 679.20(a)(6)(i) requires that 100 percent of the pollock TAC in all regulatory areas and of all seasonal allowances be allocated to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under § 679.20(e) and (f). At this time, these incidental catch amounts are unknown and will be determined during the fishing year.

The proposed seasonal biomass distribution of pollock in the Western and Central GOA, area apportionments, and seasonal apportionments for the A, B, C, and D seasons are summarized in Table 5.

Table 5—Proposed 2005 and 2006 Distribution of Pollock in the Central and Western Regulatory Areas of the Gulf of Alaska; Seasonal Biomass Distribution, Area Apportionments; and Seasonal Allowances of Annual TAC.
(Values are rounded to the nearest metric ton)
Season | Biomass Distribution: Shumagin (Area 610) | Biomass Distribution: Chirikof (Area 620) | Biomass Distribution: Kodiak (Area 630) | Biomass Distribution: Total
A | 3,747 (23.63%) | 9,027 (56.9%) | 3,091 (19.48%) | 15,865 (100%)
B | 3,748 (23.63%) | 10,704 (67.47%) | 1,413 (8.91%) | 15,865 (100%)
C | 7,717 (48.64%) | 3,380 (21.3%) | 4,768 (30.06%) | 15,865 (100%)
D | 7,718 (48.64%) | 3,379 (21.33%) | 4,768 (30.06%) | 15,865 (100%)
Annual Total | 22,930 | 26,490 | 14,040 | 63,460

Proposed Seasonal Apportionments of Pacific Cod TAC and Allocations for Processing of Pacific Cod TAC Between Inshore and Offshore Components

Pacific cod fishing is divided into two seasons in the Western and Central Regulatory Areas of the GOA. For hook-and-line, pot and jig gear, the A season is January 1 through June 10, and the B season is September 1 through December 31. For trawl gear, the A season is January 20 through June 10, and the B season is September 1 through November 1, (§ 679.23(d)(3)). After subtraction of incidental catch, 60 percent and 40 percent of the annual TAC will be available for harvest during the A and B seasons, respectively, and will be apportioned between the inshore and offshore processing components as provided in § 679.20(a)(6)(ii). Between the A and the B seasons, directed fishing for Pacific cod is closed, and fishermen participating in other directed fisheries may retain Pacific cod up to the maximum retainable amounts allowed under § 679.20(e) and (f). For purposes of clarification, NMFS points out that the dates for the A season and the B season Pacific cod fisheries differ from those of the A, B, C, and D seasons for the pollock fisheries. In accordance with § 679.20(a)(11)(ii), any overage or underage of Pacific cod allowance from the A season may be subtracted from or added to the subsequent B season allowance.

Section 679.20(a)(6)(ii) requires that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the proposed 2005 and 2006 Pacific cod TACs are shown in Tables 6 and 7, respectively.

Table 6—Proposed 2005 Seasonal Apportionments and Allocation of Pacific Cod TAC Amounts in the Gulf of Alaska; Allocations for Processing by the Inshore and Offshore Components.
(Values are rounded to the nearest metric ton)
Season | Regulatory area | TAC | Component allocation: Inshore (90%) | Component allocation: Offshore (10%)
| Western | 15,903 | 14,313 | 1,590
A season (60%) |  | 9,542 | 8,588 | 954
B season (40%) |  | 6,361 | 5,726 | 635
| Central | 25,432 | 22,889 | 2,543
A season (60%) |  | 15,259 | 13,733 | 1,526
B season (40%) |  | 10,173 | 9,156 | 1,017
| Eastern | 3,711 | 3,340 | 371
Total | 45,046 | 40,542 | 4,504

Table 7—Proposed 2006 Seasonal Apportionments and Allocation of Pacific Cod TAC Amounts in the Gulf of Alaska; Allocations for Processing by the Inshore and Offshore Components.
(Values are rounded to the nearest metric ton)
Season | Regulatory area | TAC | Component allocation: Inshore (90%) | Component allocation: Offshore (10%)
| Western | 13,054 | 11,749 | 1,305
A season (60%) |  | 7,832 | 7,049 | 783
B season (40%) |  | 5,222 | 4,700 | 522
| Central | 20,877 | 18,789 | 2,088
A season (60%) |  | 12,526 | 11,273 | 1,253
B season (40%) |  | 8,351 | 7,516 | 835
| Eastern | 3,046 | 2,741 | 305
Total | 36,977 | 33,279 | 3,698

Proposed Halibut PSC Limits

In accordance with regulations at § 679.21(d), annual halibut PSC limits are established and apportioned to trawl and hook-and-line gear and may be established for pot gear. In October 2004, the Council recommended that NMFS maintain the 2004 halibut PSC limits of 2,000 mt for the trawl fisheries and 300 mt for the hook-and-line fisheries, with 10 mt of the hook-and-line limit allocated to the demersal shelf rockfish (DSR) fishery in the SEO District and the remainder to the remaining hook-and-line fisheries for the 2005 and 2006 groundfish fisheries. Historically, the DSR fishery, defined at § 679.21(d)(4)(iii)(A), has been apportioned this amount in recognition of its small scale harvests. Although observer data are not available to verify actual bycatch amounts, given most vessels in the DSR fishery are less than 60 ft (18.3 m) length overall (LOA) and thus are exempt from observer coverage, halibut bycatch in the DSR fishery is assumed to be low because of the short soak times for the gear and duration of the DSR fishery. Also, the DSR fishery occurs in the winter when less overlap occurs in the distribution of DSR and halibut.

Section 679.21(d)(4) authorizes the exemption of specified non-trawl fisheries from the halibut PSC limit. The Council recommended that pot gear, jig gear, and the hook-and-line sablefish fishery be exempted from the non-trawl halibut limit for 2005 and 2006. The Council recommended these exemptions because (1) the pot gear fisheries experience low halibut bycatch mortality (4 mt in 2001, 2 mt in 2002, 14 mt in 2003, and 23 mt through October 9, 2004); (2) the Individual Fishing Quota (IFQ) program requires legal-sized halibut to be retained by vessels using hook-and-line gear if a halibut IFQ permit holder is aboard and is holding unused halibut IFQ; and (3) halibut mortality for the jig gear fleet cannot be estimated because these vessels do not carry observers. Halibut mortality is assumed to be very low, given the small amount of groundfish harvested by jig gear (336 mt in 2001, 277 mt in 2002, and 294 mt in 2003), and survival rates of any halibut incidentally caught by jig gear and released are assumed to be high.

Under § 679.21(d)(5), NMFS seasonally apportions the halibut PSC limits based on recommendations from the Council. The FMP and regulations require that the Council and NMFS consider the following information in seasonally apportioning halibut PSC limits: (1) seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2004 groundfish and PSC specifications (69 FR 9261, February 27, 2004) summarized the Council and NMFS findings with respect to each of the FMP considerations set forth here. At this time, the Council's and NMFS' findings are unchanged from those set forth in 2004. The proposed Pacific halibut PSC limits and apportionments for 2005 and 2006 are presented in Table 8. Section 679.21, paragraphs (d)(5)(iii) and (d)(5)(iv) specify that any underages or overages in a seasonal apportionment of a PSC limit will be deducted from or added to the next respective seasonal apportionment within the 2005 and 2006 fishing years.

Table 8—Proposed 2005 and 2006 Pacific halibut PSC limits, allowances, and apportionments. The Pacific halibut PSC limit for hook-and-line gear is allocated to the demersal shelf rockfish (DSR) fishery and fisheries other than DSR. The hook-and-line sablefish fishery is exempt from halibut PSC limits.
(Values are in metric tons)
Trawl gear: Dates | Trawl gear: Amount | Hook-and-line gear: Other than DSR: Dates | Hook-and-line gear: Other than DSR: Amount | Hook-and-line gear: DSR: Date | Hook-and-line gear: DSR: Amount
January 20 - April 1 | 550 (27.5%) | January 1 - June 10 | 250 (86%) | January 1 - December 31 | 10 (100%)
April 1 - July 1 | 400 (20%) | June 10 - September 1 | 5 (2%) |  |
July 1 - September 1 | 600 (30%) | September 1 - December 31 | 35 (12%) |  |
September 1 - October 1 | 150 (7.5%) |  |  |  |
October 1 - December 31 | 300 (15%) |  |  |  |
Total: | 2,000 (100%) |  | 290 (100%) |  | 10 (100%)

Section 679.21(d)(3)(ii) authorizes apportionments of the trawl halibut PSC limit to be further apportioned to trawl fishery categories, based on each category's proportional share of the anticipated halibut bycatch mortality during a fishing year and the need to optimize the total amount of groundfish harvest under the halibut PSC limit. The fishery categories for the trawl halibut PSC limits are (1) a deep-water species complex, comprised of sablefish, rockfish, deep-water flatfish, rex sole and arrowtooth flounder; and (2) a shallow-water species complex, comprised of pollock, Pacific cod, shallow-water flatfish, flathead sole, Atka mackerel, skates, and “other species” (see § 679.21(d)(3)(iii)). The proposed 2005 and 2006 apportionment for these two fishery complexes is presented in Table 9.

Table 9—Proposed 2005 and 2006 apportionment of Pacific halibut PSC trawl limits between the trawl gear deep-water species complex and the shallow-water species complex.
(Values are in metric tons)
Season | Shallow-water | Deep-water | Total
January 20 - April 1 | 450 | 100 | 550
April 1 - July 1 | 100 | 300 | 400
July 1 - September 1 | 200 | 400 | 600
September 1 - October 1 | 150 | Any remainder | 150
Subtotal |  |  |
January 20 - October 1 | 900 | 800 | 1,700
October 1 - December 31 | - - - - - - |  | 300
Total | - - - | - - - | 2,000
No apportionment between shallow-water and deep-water fishery complexes during the 5th season (October 1 - December 31).

Based on public comment and information contained in the final 2004 SAFE report, which will be available in December 2004, the Council may recommend, or NMFS may make, changes in the seasonal, gear-type, or fishing-complex apportionments of halibut PSC limits for the final 2005 and 2006 harvest specifications. NMFS will consider the following types of information in setting final halibut PSC limits.

Estimated Halibut Bycatch in Prior Years

The best available information on estimated halibut bycatch is data collected by observers during 2004. The calculated halibut bycatch mortality by trawl, hook-and-line, and pot gear through October 9, 2004, is 2,271 mt, 295 mt, and 23 mt, respectively, for a total halibut mortality of 2,589 mt.

Halibut bycatch restrictions constrained trawl gear fisheries seasonally during the 2004 fishing year. Trawling closed during the fourth season for the shallow-water complex on September 10 (69 FR 55783, September 16, 2004, 2003); trawling closed during the first season for the deep-water fishery complex on March 19 (69 FR 12980, March 19, 2004), during the second season on April 26 (69 FR 23450, April 29, 2004), during the third and fourth seasons on July 25 (69 FR 44973, July 28, 2004), and during the fifth season for all trawling for the remainder of the year on October 1 (69 FR 57655, September 27, 2004). The use of hook-and-line for groundfish, other than DSR and sablefish, closed during the third season for the remainder of the year on October 2 (69 FR 59835, October 6, 2004).

The amount of groundfish that trawl gear might have harvested if halibut catch limitations had not restricted the season in 2004 is unknown.

Expected Changes in Groundfish Stocks

Proposed 2005 and 2006 ABCs for arrowtooth flounder are higher than those established for 2004. The Council adopted lower 2005 and 2006 ABCs for Pacific cod, flathead sole, sablefish, northern rockfish, and Pacific ocean perch. For the remaining targets the Council recommended that ABC levels remain unchanged from 2004. More information on these changes is included in the final SAFE report (November 2003) and in the Council and SSC October 2004 meeting minutes.

Expected Changes in Groundfish Catch

The total TAC amounts for the GOA are 264,265 mt for 2005, and 253,867 mt for 2006, a decrease of about 3 percent in 2005 and about 7 percent in 2006 from the 2004 TAC total of 271,776 mt. Those fisheries for which the 2005 and 2006 TACs are lower than those in 2004 are Pacific cod (decreased to 45,046 mt in 2005 and 36,977 mt in 2006 from 48,003 mt in 2004), flathead sole (decreased to 10,382 mt in 2005 and 10,212 mt in 2006 from 10,880 mt in 2004), sablefish (decreased to 13,392 mt in 2005 and 12,428 mt in 2006 from 16,550 mt in 2004), northern rockfish (decreased to 4,600 mt in 2005 and 4,270 mt in 2006 from 4,870 mt in 2004), Pacific ocean perch (decreased to 13,100 mt in 2005 and 12,730 mt in 2006 from 13,340 mt in 2004), and “other species” (decreased to 12,584 mt in 2005 and 12,089 mt in 2006 from 12,942 mt in 2004).

Current Estimates of Halibut Biomass and Stock Condition

The most recent halibut stock assessment was conducted by the International Pacific Halibut Commission (IPHC) in December 2003. The halibut resource is considered to be healthy, with total catch near record levels. The current exploitable halibut biomass in Alaska for 2004 was estimated to be 215,912 mt.

The exploitable biomass of the Pacific halibut stock apparently peaked at 326,520 mt in 1988. According to the IPHC, the long-term average reproductive biomass for the Pacific halibut resource was estimated at 118,000 mt. Long-term average yield was estimated at 26,980 mt, round weight. The species is fully utilized. Recent average catches (1994-2003) in the commercial halibut fisheries in Alaska have averaged 34,100 mt, round weight. This catch in Alaska is 26 percent higher than long-term potential yield for the entire halibut stock, which reflects the good condition of the Pacific halibut resource. In January 2004, the IPHC recommended commercial catch limits totaling 37,029 mt (round weight equivalents) for Alaska in 2004. Through December 31, 2003, commercial hook-and line harvests of halibut in Alaska totaled 37,723 mt (round weight equivalents).

The December 2003 assessment of the halibut stock contains a number of major changes including the adoption of length-specific in place of age-specific selectivities, separate accounting of females and males, allowance for the bias and variance of age readings, and, for the first time, analytical rather than survey-based estimates of abundance in Areas 3B, 4A, and 4B. Estimates of average recruitment (1974-2004) in Areas 2C and 3A are higher than those last year by 20 to 50 percent, but estimates of exploitable biomass in those areas are lower because they are computed with an updated set of length-specific commercial selectivities that accurately represent the lower size at age and the presence of a large number of small males. While the trajectory of the halibut stock biomass is downward, the biomass is still above the long-term average level and is expected to remain above this level for the next several years.

The 2004 catch limits are based on the Commission's existing Constant Exploitation Yield harvest policy. Over the coming year, IPHC staff will continue to investigate a new harvest policy, the Conditional Constant Catch (CCC) policy, which may result in greater stability in the yield from the fishery and insulate the process of setting catch limits from technological changes in the assessment.

Additional information on the Pacific halibut stock assessment and the CCC harvest policy may be found in the IPHC's 2003 Pacific halibut stock assessment (December 2003), available from the IPHC and on its website at www.iphc.washington.edu. The IPHC will consider the 2004 Pacific halibut assessment for 2005 at its January 2005 annual meeting when it sets the 2005 commercial halibut fishery quotas.

Other Factors

The allowable commercial catch of halibut will be adjusted to account for the overall halibut PSC mortality limit established for groundfish fisheries. The 2005 and 2006 groundfish fisheries are expected to use the entire proposed annual halibut PSC limit of 2,300 mt. The allowable directed commercial catch is determined by accounting for the recreational and subsistence catch, waste, and bycatch mortality and then providing the remainder to the directed fishery. Groundfish fishing is not expected to adversely affect the halibut stocks. Methods available for reducing halibut bycatch include (1) publication of individual vessel bycatch rates on the NMFS Alaska Region website at www.fakr.noaa.gov; (2) modifications to gear, (3) changes in groundfish fishing seasons, (4) individual transferable quota programs, and (5) time/area closures.

Reductions in groundfish TAC amounts provide no incentive for fishermen to reduce bycatch rates. Costs that would be imposed on fishermen as a result of reducing TAC amounts depend on the species and amounts of groundfish foregone.

In § 679.2, the definition of Authorized fishing gear, paragraph 12, specifies requirements for biodegradable panels and tunnel openings for groundfish pots to reduce halibut bycatch. As a result, low bycatch and mortality rates of halibut in pot fisheries have justified exempting pot gear from PSC limits.

The regulations also define “Pelagic trawl gear” in a manner intended to reduce bycatch of halibut by displacing fishing effort off the bottom of the sea floor when certain halibut bycatch levels are reached during the fishing year. The definition provides standards for physical conformation (§ 679.2, see “Authorized fishing gear,” paragraph 11) and performance of the trawl gear in terms of crab bycatch (§ 679.7(a)(14)). Furthermore, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

NMFS and the Council will review the methods available for reducing halibut bycatch listed here to determine their effectiveness and will initiate changes, as necessary, in response to this review or to public testimony and comment.

Halibut Discard Mortality Rates

The Council recommends and NMFS concurs that the recommended halibut discard mortality rates (DMRs) developed by the staff of the IPHC for the 2004 GOA groundfish fisheries be used to monitor halibut bycatch mortality limits established for the 2005 and 2006 GOA groundfish fisheries. The IPHC recommended the use of long-term average DMRs for the 2004-2006 groundfish fisheries. The IPHC recommendation also includes a provision that DMRs could be revised should analysis indicate that a fishery's annual DMR deviates substantially (up or down) from the long-term average. Most of the IPHC's analysis assumed DMRs were based on an average of mortality rates determined from NMFS observer data collected between 1993 and 2002. DMRs were lacking for some fisheries; in those instances rates from the most recent years were used. For the “other species” and skate fisheries, where insufficient mortality data are available, the mortality rate of halibut caught in the Pacific cod fishery for that gear type was recommended as a default rate. The DMRs proposed for 2005 and 2006 are unchanged from those used in 2004 in the GOA. The DMRs for hook-and-line targeted fisheries range from 8 to 13 percent. The DMRs for trawl targeted fisheries range from 57 to 75 percent. The DMRs for all pot targeted fisheries are 17 percent. The proposed DMRs for 2005 and 2006 are listed in Table 10. The justification for these DMRs is discussed in Appendix B to the final SAFE report dated November 2003.

Table 10—Proposed 2005 and 2006 Halibut Discard Mortality Rates for Vessels Fishing in the Gulf of Alaska.
(Listed values are percent of halibut bycatch assumed to be dead.)
Gear | Target | Mortality Rate
Hook-and-line | Other species | 13
| Skates | 13
| Pacific cod | 13
| Rockfish | 8
Trawl | Arrowtooth flounder | 69
| Atka mackerel | 60
| Deep-water flatfish | 57
| Flathead sole | 62
| Nonpelagic pollock | 59
| Other species | 61
| Skates | 61
| Pacific cod | 61
| Pelagic pollock | 75
| Rex sole | 62
| Rockfish | 67
| Sablefish | 62
| Shallow-water flatfish | 68
Pot | Other species | 17
| Skates | 17
| Pacific cod | 17

Non-exempt American Fisheries Act (AFA) Catcher Vessel Groundfish Harvest and PSC Limitations

Regulations at § 679.64 established groundfish harvesting and processing sideboard limitations on AFA catcher/processors and catcher vessels in the GOA. These sideboard limitations are necessary to protect the interests of fishermen and processors who have not directly benefited from the AFA from fishermen and processors who have received exclusive harvesting and processing privileges under the AFA. Under the AFA regulations at § 679.4 (l)(2)(i), listed AFA catcher/processors are prohibited from fishing for any species of fish (see § 679.7(k)(1)(ii)) and from processing any groundfish harvested in Statistical Area 630 of the GOA (see § 679.7(k)(1)(iv)). The Council recommended that certain AFA catcher vessels in the GOA be exempt from groundfish harvest limitations. The AFA regulations exempt AFA catcher vessels in the GOA less than 125 ft (38.1 m) LOA whose annual BSAI pollock landings totaled less than 5,100 mt and that made 40 or more GOA groundfish landings from 1995 through 1997 (see § 679.64(b)(2)(ii)).

For non-exempt AFA catcher vessels in the GOA, sideboards limitations are based on their traditional harvest levels of TAC in groundfish fisheries covered by the GOA FMP. The AFA regulations base the groundfish sideboard limitations in the GOA on the retained catch by non-exempt AFA catcher vessels of each sideboard species from 1995 through 1997 divided by the TAC for that species over the same period (§ 679.64(b)(3)(iii)). These amounts are listed in Table 11 for 2005 and in Table 12 for 2006. All harvests of sideboard species made by non-exempt AFA catcher vessels, whether as targeted catch or as incidental catch, will be deducted from the sideboard limits in Tables 11 and 12.

Table 11—Proposed 2005 GOA Non-Exempt American Fisheries Act Catcher Vessel (CV) Groundfish Harvest Sideboard Limitations.
(Values are in metric tons)
Species | Apportionments and allocations by area/season/processor/gear | Ratio of 1995-1997 non-exempt AFA CV catch to 1995-1997 TAC | 2005 TAC | 2005 non-exempt AFA catcher vessel sideboard
Pollock | A Season (W/C areas only) January 20 - February 25 |  |  |
| Shumagin (610) | 0.6112 | 3,747 | 2,290
| Chirikof (620) | 0.1427 | 9,027 | 1,288
| Kodiak (630) | 0.2438 | 3,091 | 754
| B Season (W/C areas only) March 10 - May 31 |  |  |
| Shumagin (610) | 0.6112 | 3,748 | 2,291
| Chirikof (620) | 0.1427 | 10,704 | 1,527
| Kodiak (630) | 0.2438 | 1,413 | 344
| C Season (W/C areas only) August 25 - September 15 |  |  |
| Shumagin (610) | 0.6112 | 7,717 | 4,717
| Chirikof (620) | 0.1427 | 3,380 | 482
| Kodiak (630) | 0.2438 | 4,768 | 1,162
| D Season (W/C areas only) October 1 - November 1 |  |  |
| Shumagin (610) | 0.6112 | 7,717 | 3,362
| Chirikof (620) | 0.1427 | 3,379 | 383
| Kodiak (630) | 0.2438 | 4,768 | 1,162
| Annual |  |  |
| WYK (640) | 0.3499 | 1,280 | 448
| SEO (650) | 0.3499 | 6,520 | 2,281
Pacific cod | A Season¹ January 1 - June 10 |  |  |
| W inshore | 0.1423 | 8,588 | 1,222
| W offshore | 0.1026 | 954 | 98
| C inshore | 0.0722 | 13,733 | 992
| C offshore | 0.0721 | 1,526 | 110
| B Season² September 1 - December 31 |  |  |
| W inshore | 0.1423 | 5,726 | 815
| W offshore | 0.1026 | 636 | 65
| C inshore | 0.0722 | 9,156 | 661
| C offshore | 0.0721 | 1,071 | 77
| Annual |  |  |
| E inshore | 0.0079 | 3,340 | 26
| E offshore | 0.0078 | 371 | 3
Flatfish deep-water | W | 0.0000 | 310 | 0
| C | 0.0670 | 2,970 | 199
| E | 0.0171 | 2,790 | 48
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,382 | 16
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 482 | 0
| C trawl gear | 0.0720 | 1,178 | 85
| E trawl gear | 0.0488 | 254 | 12
Pacific ocean perch | W | 0.0623 | 2,489 | 155
| C | 0.0866 | 8,253 | 715
| E | 0.0466 | 2,358 | 110
Shortraker/Rougheye | W | 0.0000 | 254 | 0
| C | 0.0237 | 656 | 16
| E | 0.0124 | 408 | 5
Other rockfish | W | 0.0034 | 40 | 0
| C | 0.2065 | 300 | 62
| E | 0.0000 | 330 | 0
Northern rockfish | W | 0.0003 | 730 | 0
| C | 0.0336 | 3,870 | 130
Pelagic shelf rockfish | W | 0.0001 | 370 | 0
| C | 0.0000 | 3,010 | 0
| E | 0.0067 | 1,090 | 7
Thornyhead rockfish | W | 0.0308 | 410 | 13
| C | 0.0308 | 1,010 | 31
| E | 0.0308 | 520 | 16
Big and Longnose skates | C | 0.0090 | 3,284 | 30
Other skates | GW | 0.0090 | 3,709 | 33
Demersal shelf rockfish | SEO | 0.0020 | 450 | 1
Atka mackerel | Gulfwide | 0.0309 | 600 | 19
Other species | Gulfwide | 0.0090 | 12,584 | 113
1 The Pacific cod A season for trawl gear does not open until January 20.
2 The Pacific cod B season for trawl gear closes November 1.

Table 12—Proposed 2006 GOA Non-Exempt American Fisheries Act Catcher Vessel (CV) Groundfish Harvest Sideboard Limitations.
(Values are in metric tons)
Species | Apportionments and allocations by area/season/processor/gear | Ratio of 1995-1997 non-exempt AFA CV catch to 1995-1997 TAC | 2006 TAC | 2006 non-exempt AFA catcher vessel sideboard
Pollock | A Season (W/C areas only) January 20 - February 25 |  |  |
| Shumagin (610) | 0.6112 | 3,747 | 2,290
| Chirikof (620) | 0.1427 | 9,027 | 1,288
| Kodiak (630) | 0.2438 | 3,091 | 754
| B Season (W/C areas only) March 10 - May 31 |  |  |
| Shumagin (610) | 0.6112 | 3,748 | 2,291
| Chirikof (620) | 0.1427 | 10,704 | 1,527
| Kodiak (630) | 0.2438 | 1,413 | 344
| C Season (W/C areas only) August 25 - September 15 |  |  |
| Shumagin (610) | 0.6112 | 7,717 | 4,717
| Chirikof (620) | 0.1427 | 3,380 | 482
| Kodiak (630) | 0.2438 | 4,768 | 1,162
| D Season (W/C areas only) October 1 - November 1 |  |  |
| Shumagin (610) | 0.6112 | 7,717 | 3,362
| Chirikof (620) | 0.1427 | 3,379 | 383
| Kodiak (630) | 0.2438 | 4,768 | 1,162
| Annual |  |  |
| WYK (640) | 0.3499 | 1,280 | 448
| SEO (650) | 0.3499 | 6,520 | 2,281
Pacific cod | A Season¹ January 1 - June 10 |  |  |
| W inshore | 0.1423 | 7,292 | 1,038
| W offshore | 0.1026 | 810 | 83
| C inshore | 0.0722 | 11,273 | 814
| C offshore | 0.0721 | 1,253 | 90
| B Season² September 1 - December 31 |  |  |
| W inshore | 0.1423 | 4,457 | 634
| W offshore | 0.1026 | 495 | 51
| C inshore | 0.0722 | 7,516 | 543
| C offshore | 0.0721 | 835 | 60
| Annual |  |  |
| E inshore | 0.0079 | 2,741 | 22
| E offshore | 0.0078 | 305 | 2
Flatfish deep-water | W | 0.0000 | 310 | 0
| C | 0.0670 | 2,970 | 199
| E | 0.0171 | 2,790 | 48
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,212 | 15
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 447 | 0
| C trawl gear | 0.0720 | 1,094 | 79
| E trawl gear | 0.0488 | 236 | 12
Pacific ocean perch | W | 0.0623 | 2,419 | 151
| C | 0.0866 | 8,020 | 695
| E | 0.0466 | 2,291 | 107
Shortraker/Rougheye | W | 0.0000 | 254 | 0
| C | 0.0237 | 656 | 16
| E | 0.0124 | 408 | 5
Other rockfish | W | 0.0034 | 40 | 0
| C | 0.2065 | 300 | 62
| E | 0.0000 | 330 | 0
Northern rockfish | W | 0.0003 | 678 | 0
| C | 0.0336 | 3,592 | 121
Pelagic shelf rockfish | W | 0.0001 | 370 | 0
| C | 0.0000 | 3,010 | 0
| E | 0.0067 | 1,090 | 7
Thornyhead rockfish | W | 0.0308 | 410 | 13
| C | 0.0308 | 1,010 | 31
| E | 0.0308 | 520 | 16
Big and Longnose skates | C | 0.0090 | 3,284 | 30
Other skates | GW | 0.0090 | 3,709 | 33
Demersal shelf rockfish | SEO | 0.0020 | 450 | 1
Atka mackerel | Gulfwide | 0.0309 | 600 | 19
Other species | Gulfwide | 0.0090 | 12,089 | 109
¹The Pacific cod A season for trawl gear does not open until January 20.
²The Pacific cod B season for trawl gear closes November 1.

PSC sideboard limitations for non-exempt AFA catcher vessels in the GOA are based on the ratio of aggregate retained groundfish catch by non-exempt AFA catcher vessels in each PSC target category from 1995 through 1997 relative to the retained catch of all vessels in that fishery from 1995 through 1997 (see § 679.64(b)(4)). These amounts are shown in Table 13.

Table 13—Proposed 2005 and 2006 Non-Exempt American Fisheries Act Catcher Vessel Prohibited Species Catch (PSC) Limits for the GOA.
(Values are in metric tons)
PSC species | Season | Target fishery | Ratio of 1995-1997 non-exempt AFA CV retained catch to total retained catch | 2005 and 2006 PSC limit | 2005 and 2006 non-exempt AFA catcher vessel PSC limit
Halibut (mortality in mt) | Trawl 1st seasonal allowance January 20 - April 1 | shallow water targets deep water targets | 0.340 0.070 | 450 100 | 153 7
| Trawl 2nd seasonal allowance April 1 - July 1 | shallow water targets deep water targets | 0.340 0.070 | 100 300 | 34 21
| Trawl 3rd seasonal allowance July 1 - September 1 | shallow water targets deep water targets | 0.340 0.070 | 200 400 | 68 28
| Trawl 4th seasonal allowance September 1 - October 1 | shallow water targets deep water targets | 0.340 0.070 | 150 0 | 51 0
| Trawl 5th seasonal allowance October 1 - December 31 | all targets | 0.205 | 300 | 61

Classification

NMFS has determined that the proposed specifications are consistent with the FMP and preliminarily determined that the proposed specifications are consistent with the Magnuson-Stevens Act and other applicable laws.

An IRFA was prepared to evaluate the impacts of the 2005 and 2006 proposed harvest specifications on directly regulated small entities. This IRFA is intended to meet the statutory requirements of the Regulatory Flexibility Act (RFA). A copy of the IRFA is available from NMFS (see ADDRESSES). The reason for the action, a statement of the objective of the action, and the legal basis are discussed in the preamble and are not repeated here.

The 2005 and 2006 harvest specifications establish harvest limits for the groundfish species and species groups in the GOA. This action is necessary to allow fishing in 2005 and 2006. About 807 small catcher vessels and 23 small catcher/processors may be directly regulated by these specifications.

The IRFA examined the impacts of the preferred alternative on small entities within fisheries defined by the harvest of species groups whose TACs might be affected by the specifications. The IRFA identified adverse impacts on small fishing operations harvesting sablefish, Pacific cod, northern rockfish, and Pacific ocean perch in the GOA.

The largest adverse impacts were imposed on vessel harvesting sablefish and Pacific cod in the GOA. The sablefish impacts would affect 443 small catcher vessels and catcher-processors, with average gross revenues of $291,000, and decrease their gross revenues by a maximum of 10 percent. The Pacific cod impacts would affect 464 catcher vessels and catcher-processors, with average gross revenues of $273,000, and decrease their gross revenues by a maximum of 8 percent. Smaller impacts would be felt in other sectors. In the GOA, 31 northern rockfish catcher vessels and catcher-processors, with average gross revenues of $823,000, would have gross revenue reductions of a maximum of 2.4 percent, while 41 Pacific ocean perch catcher vessels and catcher-processors, with average gross revenues of $735,000, would have gross revenue reductions of a maximum of 2 percent.

Please refer to the IRFA for a fuller explanation of impacts on small entities. A copy of the IRFA is available from NMFS (see ADDRESSES).

This regulation does not impose new recordkeeping or reporting requirements on the regulated small entities. This analysis did not reveal any Federal rules that duplicate, overlap, or conflict with the proposed action.

This analysis examined four alternatives to the preferred alternative. These included alternatives that set TACs to produce fishing rates equal to maxFABC,½ maxFABC, the recent 5 year average F, and zero. Only one of these alternatives, setting TACs to produce fishing rates of maxFABC, would potentially have a smaller adverse impact on small entities than the preferred alternative. This alternative is associated with larger gross revenues for the GOA fisheries. Many of the vessels identified above would share in these gross revenues. However, the maxFABC is to a fishing rate which may, and often does, exceed biologically recommended ABCs. For the pollock, deep-water, flatfish, rex sole, sablefish, Pacific Ocean perch, shortraker and rougheye rockfish, northern rockfish, pelagic shelf rockfish, thornyhead rockfish, demersal shelf rockfish, and Atka mackerel fisheries described above, the preferred alternative, which produces fishing rates less than maxFABC, sets TACs equal to projected annual ABCs. In addition, the preferred alternative TACs for Pacific cod, flathead sole, shallow-water flatfish, arrowtooth founder, and other rockfish, when combined with the State of Alaska guideline harvest levels for these fisheries, also equals the ABC. The increases in TACs related to producing fishing rates of maxFABC would not be consistent with biologically prudent fishery management because they do not fall within scientifically determined ABC.

This action is authorized under § 679.20 and is exempt from review under Executive Order 12866.

Authority: 16 U.S.C. 773 et seq., 1801 et seq., and 3631 et seq.; 16 U.S.C. 1540(f); Pub. L. 105 277, Title II of Division C; Pub L. 106 31, Sec. 3027; and Pub L. 106 554, Sec. 209.

Dated: December 1, 2004.
William T. Hogarth,
Assistant Administrator for Fisheries, National Marine Fisheries Service.

[FR Doc. 04-26832 Filed 12-6-04; 8:45 am]

BILLING CODE 3510-22-S